DEPARTMENT OF ENERGY

Federal Energy Regulatory Commission

[Project Nos. 6474-002, 7982-003]

Peer Electric, LLC; KC Pittsfield LLC; Notice of Transfer of Exemptions

By letter filed September 21, 2015, Peer Electric, LLC (Peer) informed the Commission that the exemption from licensing for the Eastman Brook Project, FERC No. 6474, originally issued September 7, 1982,¹ has been transferred to KC Pittsfield LLC. Also, the Celley Mill Project, FERC No. 7982, originally issued September 24, 1984,² has been transferred to KC Pittsfield LLC. The projects are located on Eastman Brook in Grafton County, New Hampshire. The transfer of exemptions do not require Commission approval.

¹ 20 FERC ¶ 62,426, Notice of Exemption From Licensing (1982).

² 28 FERC ¶ 62,429, Order Granting Exemption From Licensing of a Small Hydroelectric Project of 5 Megawatts or Less (1984).

2. KC Pittsfield LLC is now the exemptee of the Eastman Brook Project, FERC No. 6474 and the Celley Mill Project, FERC No. 7982. All correspondence should be forwarded to: Kelly W. Sackheim, KC Pittsfield LLC, c/o Landry Associates Certified Public Accountants, PA, 6 Chenell Drive 280, Concord, New Hampshire 03301.

Dated: October 6, 2015.
Kimberly D. Bose,
Secretary.

[FR Doc. 2015-26073 Filed 10-13-15; 8:45 am]

BILLING CODE 6717-01-P